SECURITIES AND EXCHANGE COMMISSION

In the Matter of Multi-Corp. International, Inc., Pan American Goldfields Ltd., and Sky Harvest Energy Corp., File No. 500-1; Order of Suspension of Trading

August 31, 2016.

It appears to the Securities and Exchange Commission that there is a lack of current and accurate information concerning the securities of Multi-Corp. International, Inc. (CIK No. 1405260), a defaulted Nevada corporation with its principal place of business listed as Las Vegas, Nevada, with stock quoted on OTC Link (previously, “Pink Sheets”) operated by OTC Markets Group, Inc. (“OTC Link”) under the ticker symbol MULI, because it has not filed any periodic reports since the period ended March 31, 2013. On June 6, 2014, Multi-Corp. International, Inc. was sent a delinquency letter sent by the Division of Corporation Finance requesting compliance with its periodic filing obligations, but did not receive the delinquency letter due to its failure to maintain a valid address on file with the Commission as required by Commission rules (Rule 301 of Regulation S-T, 17 CFR 232.301 and Section 5.4 of EDGAR Filer Manual).

It appears to the Securities and Exchange Commission that there is a lack of current and accurate information concerning the securities of Pan American Goldfields Ltd. (CIK No. 1046672), a Delaware corporation with its principal place of business listed as Toronto, Ontario, Canada, with stock quoted on OTC Link under the ticker symbol MXOM, because it has not filed any periodic reports since the period ended November 30, 2013. On March 25, 2015, Pan American Goldfields Ltd. was sent a delinquency letter by the Division of Corporation Finance requesting compliance with its periodic filing obligations, and Pan American Goldfields Ltd. received the delinquency letter on April 10, 2015, but failed to cure its delinquencies.

It appears to the Securities and Exchange Commission that there is a lack of current and accurate information concerning the securities of Sky Harvest Energy Corp. (CIK No. 1332445), a revoked Nevada corporation with its principal place of business listed as Vancouver, British Columbia, Canada with stock quoted on OTC Link under the ticker symbol SKYH, because it has not filed any periodic reports since the period ended May 31, 2013. On January 26, 2015, Sky Harvest Energy Corp. was sent a delinquency letter by the Division of Corporation Finance requesting compliance with its periodic filing obligations, but did not receive the delinquency letter due to its failure to maintain a valid address on file with the Commission as required by Commission rules (Rule 301 of Regulation S-T, 17 CFR 232.301 and Section 5.4 of EDGAR Filer Manual).

The Commission is of the opinion that the public interest and the protection of investors require a suspension of trading in the securities of the above-listed company.

Therefore, it is ordered, pursuant to Section 12(k) of the Securities Exchange Act of 1934, that trading in the securities of the above-listed company is suspended for the period from 9:30 a.m. EDT on August 31, 2016, through 11:59 p.m. EDT on September 14, 2016.

By the Commission.
Jill M. Peterson,
Assistant Secretary.

[FR Doc. 2016-21300 Filed 8-31-16; 4:15 pm]

BILLING CODE 8011-01-P